ENVIRONMENTAL PROTECTION AGENCY

40 CFR Parts 260, 261, 262, 263, 264, 265, 266, 268, and 270

[EPA-RCRA-2008-0678; FRL-9158-5]

RIN 2050-AG52

Hazardous Waste Technical Corrections and Clarifications Rule

AGENCY: Environmental Protection Agency (EPA).

ACTION: Partial withdrawal of direct final rule.

SUMMARY: On March 18, 2010, EPA published in the Federal Register a Direct Final rule entitled, Hazardous Waste Technical Corrections and Clarifications Rule (75 FR 12989). This Direct Final rule included a number of specific technical changes to correct or clarify several parts of the Resource Conservation and Recovery Act (RCRA) hazardous waste regulations. At the same time, EPA also published a parallel Proposed Rule (75 FR 13006) for the same changes. EPA received adverse comment on four of the specific amendments and thus is withdrawing them. The four amendments being withdrawn are: 40 CFR 262.34(a); 40 CFR 262.34(a)(2); 40 CFR 262.34(a)(5), and 40 CFR 266.20(b). As a result of withdrawing the amendment at 40 CFR 262.34(a)(5), we also are withdrawing the related amendment at 40 CFR 262.34(a)(1)(iv)(B). Finally, because of a typographical error, we also are withdrawing the amendment to the entry “K107” in the table at 40 CFR 261.32(a).

DATES: On June 16, 2010, all amendments go into effect that were published in the Federal Register at 75 FR 12989 on March 18, 2010, except the following: The amendment to the entry “K107” in the table at 40 CFR 261.32(a); the amendment to 40 CFR 262.34(a); the amendment to 40 CFR 262.34(a)(1)(iv)(B); the amendment to 40 CFR 262.34(a)(2); the amendment to 40 CFR 262.34(a)(5), and the amendment at 40 CFR 266.20(b) which are withdrawn effective June 4, 2010.

FOR FURTHER INFORMATION CONTACT: Jim O'Leary, U.S. Environmental Protection Agency, Office of Resource Conservation and Recovery (MC:5304P), 1200 Pennsylvania Avenue, NW., Washington, DC 20460, Phone: (703) 308-8827; or e-mail: oleary.jim@epa.gov.

SUPPLEMENTARY INFORMATION: On March 18, 2010, EPA published in the Federal Register a Direct Final rule entitled, Hazardous Waste Technical Corrections and Clarifications Rule (75 FR 12989). This Direct Final rule included a number of specific technical changes to correct or clarify several parts of the Resource Conservation and Recovery Act (RCRA) hazardous waste regulations. At the same time, EPA also published a parallel Proposed Rule (75 FR 13006) for the same changes.

We stated in that Direct Final rule that if we received adverse comment on any amendments by May 3, 2010, the affected amendments in the Direct Final rule would not take effect and we would publish a timely withdrawal in the Federal Register of those specific amendments. We subsequently received adverse comment on four specific amendments:

• 40 CFR 262.34(a) related to the hazardous waste accumulation time for large quantity generators;

• 40 CFR 262.34(a)(2) related to the date upon which each period of accumulation begins must be clearly marked and visible for inspection on each container and tank;

• 40 CFR 262.34(a)(5) related to the closure requirements for tanks, containers, drip pads and containment buildings

• 40 CFR 266.20(b) related to recyclable materials used in a manner constituting disposal.

Because EPA received adverse comment on these four amendments, we are withdrawing them.

As a result of withdrawing 40 CFR 262.34(a)(5), the related amendment at 40 CFR 262.34(a)(1)(iv)(B) must also be withdrawn because the Agency had deleted the latter part of this particular regulatory citation in the Direct Final rule in an effort to clarify the closure requirements for tanks, containers, drip pads and containment buildings. Also, there was a typographical error related to the entry for EPA hazardous waste No. K107 in the table at 40 CFR 261.32(a). We therefore are withdrawing this amendment as well. Thus, we are withdrawing six of the original amendments from the March 18, 2010 Direct Final rule.

EPA published a parallel Proposed Rule on the same day as the Direct Final rule (75 FR 13006). The Proposed Rule invited comment on the substance of the Direct Final rule. We intend to review the adverse comments we received with respect to the amendments at 40 CFR 262.34(a), 40 CFR 262.34(a)(1)(iv)(B), 40 CFR 262.34(a)(2), 40 CFR 262.34(a)(5), and 40 CFR 266.20(b) to determine the appropriate course of action for each amendment. With respect to the typographical error in the amendment to the entry for EPA hazardous waste No. K107 in the table at 40 CFR 261.32(a), we intend to publish a final rulemaking that will correct this mistake. As stated in the parallel proposal, we will not institute a second comment period on these proposed actions.

The amendments for which we did not receive adverse comment will become effective on June 16, 2010, as provided in the March 18, 2010, Direct Final rule.

Effective Dates

Because there may be some confusion about the effective dates for the amendments in the Final Hazardous Waste Technical Corrections and Clarifications Rule (75 FR 12989) which are not being withdrawn and which go into effect on June 16, 2010, EPA is here providing further explanation for the three types of amendments in the Final Rule. The three types of amendments result from the fact that the amendments are promulgated in part under the authority of the Hazardous and Solid Waste Amendments of 1984 (HSWA), and in part under non-HSWA RCRA authority. In addition, some amendments are jointly promulgated under the authority of the Hazardous Materials Transportation Act (HMTA).

First, the following amendments to the manifest regulations are promulgated under non-HSWA RCRA authority and the authority of the Hazardous Materials Transportation Act:

• 40 CFR 262.23,

• 40 CFR 262.41, and

• 40 CFR 262.42, and

• 40 CFR 262.60(b).

These non-HSWA manifest amendments will be implemented under RCRA authority on the effective date only in those states that do not have final authorization of their base RCRA programs. These changes will not therefore be implemented and enforced under RCRA authority in authorized states until the authorized states have revised their programs and received authorization for these program revisions. However, because these hazardous waste manifest requirements are jointly promulgated by EPA under RCRA authority and the Department of Transportation (DOT) under the federal hazardous materials transportation laws, the manifest changes will be applicable federally in all states under the authority of the Hazardous Materials Transportation Act (HMTA) on the effective date. All states will be required to adopt these amendments in accordance with the consistency requirements in 40 CFR 271.4(c). (See 70 FR 10810-10811, March 4, 2005 for a further discussion of the effects of DOT hazardous materials law, RCRA consistency requirements, and state authorization on the implementation of the manifest.)

Second, the following amendments are promulgated under the authority of HSWA and, because they are not more stringent, they will be effective on June 16, 2010, in states that are not currently authorized for the section being amended:

• All amendments to regulations in 40 CFR Part 268,

• 40 CFR 264.552, and

• 40 CFR 266.101.

Third, all other amendments in the Hazardous Waste Technical Corrections and Clarifications Rule which are not withdrawn and go into effect on June 16, 2010, are promulgated under non-HSWA RCRA authority. These non-HSWA amendments will be applicable on the effective date only in those states that do not have final authorization of their base RCRA programs.

Authorized states are required to modify their programs only when EPA promulgates federal regulations that are more stringent or broader in scope than the authorized state regulations. For those changes that are less stringent or reduce the scope of the federal program, states are not required to modify their program. This is a result of section 3009 of RCRA, which allows states to impose more stringent regulations than the federal program. The Hazardous Waste Technical Corrections and Clarifications Rule is considered to be neither more nor less stringent than the current standards. Therefore, authorized states, while not required to modify their programs to adopt the second and third types of technical corrections discussed above are strongly urged to adopt these technical corrections to avoid any confusion or misunderstanding by the regulated community and the public.

List of Subjects

40 CFR Part 260

Environmental protection, Administrative practice and procedure, Confidential business information, Hazardous waste, Reporting and recordkeeping requirements.

40 CFR Part 261

Environmental protection, Hazardous waste, Recycling, Reporting and recordkeeping requirements.

40 CFR Part 262

Environmental protection, Exports, Hazardous materials transportation, Hazardous waste, Imports, Labeling, Packaging and containers, Reporting and recordkeeping requirements.

40 CFR Part 263

Environmental protection, Hazardous materials transportation, Hazardous waste, Reporting and recordkeeping requirements.

40 CFR Part 264

Environmental protection, Air pollution control, Hazardous waste, Insurance, Packaging and containers, Reporting and recordkeeping requirements, Security measures, Surety bonds.

40 CFR Part 265

Environmental protection, Air pollution control, Hazardous waste, Insurance, Packaging and containers, Reporting and recordkeeping requirements, Security measures, Surety bonds, Water supply.

40 CFR Part 266

Environmental protection, Energy, Hazardous waste, Recycling, Reporting and recordkeeping requirements.

40 CFR Part 268

Environmental protection, Hazardous waste, Reporting and recordkeeping requirements.

40 CFR Part 270

Environmental protection, Administrative practice and procedure, Confidential business information, Hazardous materials transportation, Hazardous waste, Reporting and recordkeeping requirements, Water pollution control, Water supply.

Dated: May 27, 2010.
Mathy Stanislaus,
Assistant Administrator, Office of Solid Waste and Emergency Response.

Accordingly, EPA withdraws the amendment to the entry “K107” in the table 40 CFR 261.32(a), the amendment at 40 CFR 262.34(a), the amendment at 40 CFR 262.34(a)(1)(iv)(B), the amendment at 40 CFR 262.34(a)(2), the amendment at 40 CFR 262.34(a)(5), and the amendment at 40 CFR 266.20(b) published in the Federal Register on March 18, 2010 (75 FR 12989).

[FR Doc. 2010-13376 Filed 6-3-10; 8:45 am]

BILLING CODE 6560-50-P